DEPARTMENT OF AGRICULTURE

Rural Utilities Service

Golden Valley Electric Association, Inc.; Notice of Availability of an Environmental Assessment

AGENCY: Rural Utilities Service, USDA.

ACTION: Notice of availability of an environmental assessment (EA).

SUMMARY: Notice is hereby given that the Rural Utilities Service (RUS) has prepared an environmental assessment (EA) for a project proposed by Golden Valley Electric Association, Inc., (GVEA) of Fairbanks, Alaska. The project consists of constructing a 138kV transmission line between the GVEA North Pole Power Plant, North Pole, Alaska, and the Carney Substation, which is approximately 22 miles southeast of North Pole.

FOR FURTHER INFORMATION CONTACT: Nurul Islam, Environmental Protection Specialist, U.S. Department of Agriculture, RUS, Engineering and Environmental Staff, 1400 Independence Avenue, SW., Washington, DC 20250-1571, telephone (202) 720-1414, FAX: (202) 720-0820, e-mail: nurul.islam@usda.gov. Information is also available from Mr. Greg Wyman, Manager of Construction Services, GVEA, POB 71249, Fairbanks, Alaska 99707-1249, telephone (907) 451-5629. His e-mail address is: gwyman@gvea.com.

SUPPLEMENTARY INFORMATION: GVEA proposes to construct the North Pole-Carney Substation 138kV Transmission Line Project, which is approximately 22 miles in length. The primary purpose of the facility is to meet the projected future increases in regional power requirements and to improve the quality of service to existing customers. To accommodate the new transmission line, either a new substation would be built next to the North Pole Power Plant, or the existing generating/substation facilities at North Pole would be modified to provide an additional breaker to feed the transmission line and other breaker bays for future growth. In addition, GVEA would modify the Carney Substation to provide an additional breaker to allow for termination of the transmission line. The Carney Substation work would take place within the existing substation footprint.

Alternatives to the proposed project are discussed in detail in the EA. They include the no action, energy conservation, purchase of power, upgrade existing transmission lines, and constructing new transmission facilities.

The EA is available for public review at RUS or GVEA at the addresses provided in this notice and at the following locations:

(1) Noel Wien Public Library, 1215 Cowles Street, Fairbanks, AK 99701.

(2) North Pole City Library, 601 Snowman Lane, North Pole, AK 99705.

Questions and comments should be sent to RUS at the address provided in this notice. RUS will accept questions and comments on the EA for 30 days from the date of publication of this notice.

Any final action by RUS related to the proposed project will be subject to, and contingent upon, compliance with all relevant Federal environmental laws and regulations and completion of environmental review procedures as prescribed by the 7 CFR part 1794, RUS Environmental Policies and Procedures.

Dated: January 6, 2004.
Lawrence R. Wolfe,
Acting Director, Engineering and Environmental Staff.

[FR Doc. 04-876 Filed 1-14-04; 8:45 am]

BILLING CODE 3410-15-P